GENERAL SERVICES ADMINISTRATION

41 CFR Parts 300-1, 300-2, 300-3, 300-70, 301-10, 301-11, 301-12, 301-50, 301-51, 301-52, 301-53, 301-54, 301-70, 301-71, 301-72, 301-73, 301-75, and Chapter 301—Appendices B and D

[FTR Amendment 2007-05; FTR Case 2007-305; Docket 2007-0002, Sequence 4]

RIN 3090-AI39

Federal Travel Regulation; FTR Case 2007-305, Miscellaneous Amendments

AGENCY: Office of Governmentwide Policy, GSA.

ACTION: Final rule.

SUMMARY: This final rule updates the Federal Travel Regulation (FTR) by making miscellaneous changes, including editorial changes and corrections. These changes are necessary to improve the accuracy, interpretation, and readability of the FTR.

EFFECTIVE DATE: This final rule is effective October 31, 2007.

FOR FURTHER INFORMATION CONTACT: The Regulatory Secretariat, Room 4035, GSA Building, Washington, DC, 20405, (202) 501-4755, for information pertaining to status or publication schedules. For clarification of content, contact Ms. Umeki Gray Thorne, Office of Governmentwide Policy, (MTT), at (202) 208-7636. Please cite FTR Amendment 2007-05.

SUPPLEMENTARY INFORMATION:

A. Background

This final rule amends the Federal Travel Regulation (FTR) by:

1. Updating and correcting agency and office titles and acronyms;

2. Making several editorial and grammatical changes, and clarifying areas of existing policy where needed.

3. Replacing the term “eTravel Service” with “E-Gov Travel Service” wherever it appears.

4. Replacing “Federal Premier Lodging Program” and “FPLP” with “FedRooms” wherever it appear.

5. Replacing references to “Military Traffic Management Command (MTMC)” with “Surface Deployment and Distribution Command (SDDC)” wherever it appears.

6. Replacing “Travel Management System” with “Travel Management Service” wherever it appears.

7. Replacing “General Accounting Office” with “Government Accountability Office” wherever it appears.

8. Replacing “eTravel Program Management Office” with “E-Gov Travel Program Management Office” wherever it appears.

9. Adding to the category of miscellaneous expense reimbursements, under passport and/or visa fees, the reimbursement of fees incurred by a required physical examination for foreign travel.

10. Removing the acronym “GEBAT” in Section 301-51.100 and Appendix D to Chapter 301.

11. Adding changes to authority citations to be consistent with the codification of Title 40 of the United States Code.

12. Adding a term and definition for “Subsistence Allowance”.

13. Clarifying that lodging taxes for United States locations are not included in the per diem allowance.

14. Amending helpful do’s and don’ts for Government contractor-issued travel cardholders.

15. Amending Chapter 301-Appendices B and D, in accordance with the above changes.

B. Executive Order 12866

This is not a significant regulatory action and, therefore, was not subject to review under Section 6(b) of Executive Order 12866, Regulatory Planning and Review, dated September 30, 1993. This rule is not a major rule under 5 U.S.C. 804.

C. Regulatory Flexibility Act

This final rule is not required to be published in the Federal Register for notice and comment therefore, the Regulatory Flexibility Act, 5 U.S.C. 601, et seq., does not apply.

D. Paperwork Reduction Act

The Paperwork Reduction Act does not apply because the changes to the FTR do not impose recordkeeping or information collection requirements, or the collection of information from offerors, contractors, or members of the public that require the approval of the Office of Management and Budget (OMB) under 44 U.S.C. 3501, et seq.

E. Small Business Regulatory Enforcement Fairness Act

This final rule is also exempt from congressional review prescribed under 5 U.S.C. 801 since it relates solely to agency management and personnel.

List of Subjects in 41 CFR Parts 300-1, 300-2, 300-3, 300-70, 301-10, 301-11, 301-12, 301-50, 301-51, 301-52, 301-53, 301-54, 301-70, 301-71, 301-72, 301-73, 301-75, and Chapter 301-Appendices B and D

Government employees, Travel and transportation expenses.

Dated: September 13, 2007.
Lurita Doan,
Administrator of General Services.

For the reasons set forth in the preamble, under 5 U.S.C. 5701-5709, GSA amends 41 CFR parts 300-1, 300-2, 300-3, 300-70, 301-10, 301-11, 301-12, 301-50, 301-51, 301-52, 301-53, 301-54, 301-70, 301-71, 301-72, 301-73, 301-75, and Chapter 301-Appendices B and D to read as follows:

PART 300-1—THE FEDERAL TRAVEL REGULATION (FTR)

1. The authority citation for 41 CFR part 300-1 is revised to read as follows:

Authority: 5 U.S.C. 5707; 5 U.S.C. 5738; 5 U.S.C. 5741-5742; 20 U.S.C. 905(a); 31 U.S.C. 1353; 40 U.S.C. 121(c); 49 U.S.C. 40118; E.O. 11609, 3 CFR, 1971-1975 Comp., p. 586.

PART 300-2—HOW TO USE THE FTR

2. The authority citation for 41 CFR part 300-2 is revised to read as follows:

Authority: 5 U.S.C. 5707; 5 U.S.C. 5738; 5 U.S.C. 5741-5742; 20 U.S.C. 905(a); 31 U.S.C. 1353; 40 U.S.C. 121(c); 49 U.S.C. 40118; E.O. 11609, 3 CFR, 1971-1975 Comp., p. 586.

PART 300-3—GLOSSARY OF TERMS

3. The authority citation for 41 CFR part 300-3 is amended by inserting a period at the end of the citation to read as follows:

Authority: 5 U.S.C. 5707; 40 U.S.C. 121(c); 49 U.S.C. 40118; 5 U.S.C. 5738; 5 U.S.C. 5741-5742; 20 U.S.C. 905(a); 31 U.S.C. 1353; E.O. 11609; 36 FR 13747; 3 CFR, 1971-1975 Comp., p. 586, Office of Management and Budget Circular No. A-126, “Improving the Management and Use of Government Aircraft.” Revised May 22, 1992.

4. Amend § 300-3.1 by—

a. Removing in the definition of “Agency”, paragraph (1), the words “General Accounting Office” and adding “Government Accountability Office” in its place;

b. Removing the definition title “eTravel Service (eTS)” and adding “E-Gov Travel Service (ETS)” in its place;

c. Adding in the definition of “Household Goods (HHG)”, paragraph (1)(v) a parenthesis after “trailers)”, and by removing “that can fit into a moving van”;

d. Amend the definition of “Per diem allowance”, by revising the last sentence in the introductory text and paragraph (a); and in paragraph (c)(2) by removing “can” and adding “cannot” in its place; and

e. Adding, in alphabetical order, the definition “Subsistence Expenses”.

The revised text reads as follows:

§ 300-3.1 What do the following terms mean?

* * * * *

Per diem allowance * * *

The per diem allowance covers all charges and services, including any service charges where applicable. Lodging taxes in the United States are excluded from the per diem allowance and are reimbursed as a miscellaneous expense. In foreign locations, lodging taxes are part of the per diem allowance and are not a miscellaneous expense. The per diem allowance covers the following:

(a) Lodging. Includes expenses, except lodging taxes in the United States, for overnight sleeping facilities, baths, personal use of the room during daytime, telephone access fee, and service charges for fans, air conditioners, heaters and fires furnished in the room when such charges are not included in the room rate.

* * * * *

Subsistence Expenses - Expenses such as:

(a) Lodging and service charges;

(b) Meals, including taxes and tips; and

(c) Incidental expenses (see incidental expenses under the definition of per diem allowance).

* * * * *

PART 300-70—AGENCY REPORTING REQUIREMENTS

5. The authority citation for 41 CFR part 300-70 is revised to read as follows:

Authority: 5 U.S.C. 5707; 5 U.S.C. 5738; 5 U.S.C. 5741-5742; 20 U.S.C. 905(a); 31 U.S.C. 1353; 40 U.S.C. 121(c); 49 U.S.C. 40118; E.O. 11609, 3 CFR, 1971-1975 Comp.,p. 586.

§ § 300-70.1 and 300-70.3 [Amended]

6. Amend § § 300-70.1 and 300-70.3 by removing “and Transportation” in the last sentence after “Travel”, respectively.

PART 301-10—TRANSPORTATION EXPENSES

7. The authority citation for 41 CFR part 301-10 is revised to read as follows:

Authority: 5 U.S.C. 5707, 40 U.S.C. 121(c); 49 U.S.C. 40118, Office of Management and Budget Circular No. A-126, “Improving the Management and Use of Government Aircraft.” Revised April 28, 2006.

§ 301-10.105 [Amended]

8. Amend § 301-10.105(c), by removing “or (ship)” wherever it appears and adding “(or ship)” in its place.

§ 301-10.107 [Amended]

9. Amend § 301-10.107, Note 1, by removing “system” and adding “service”, in its place.

§ 301-10.123 [Amended]

10. Amend § 301-10.123(b), second sentence, by removing “in writing” and adding “annually in a written statement” in its place.

§ 301-10.138 [Amended]

11. Amend § 301-10.138(b)(3) by removing “can not” and adding “cannot”, in its place.

PART 301-11—PER DIEM EXPENSES

12. The authority citation for 41 CFR part 301-11 continues to read as follows:

Authority: 5 U.S.C. 5707.

§ 301-11.6 [Amended]

13. Amend § 301-11.6 by—

a. Removing, in the table, entry (b), in the third column, “http://www.dtic.mil/perdiem” and adding “https://secureapp2.hqda.pentagon.mil/perdiem/perdiemrates.html” in its place; and

b. Adding, in the table, entry (c), in the third column, “and available on the Internet at www.state.gov” after “Areas)”.

§ 301-11.11 [Amended]

14. Amend § 301-11.11 by removing “system” and adding “service” in its place.

§ 301-11.15 [Amended]

15. Amend § 301-11.15(a), by adding “rental” before “cost of appropriate”.

§ 301-11.18 [Amended]

16. Amend § 301-11.18, in the first sentence, by removing “Your” and adding “Except as provided in § 301-11.17, your” in its place.

§ 301-11.21 [Amended]

17. Amend § 301-11.21(b), by removing “of” and adding “or” in its place.

18. Revise the last sentence in § 301-11.29 to read as follows:

§ 301-11.29 Are lodging facilities required to accept a generic federal, state, or local tax exempt certificate?

* * * The GSA Per Diem Rates webpage (http://gsa.gov/perdiem) provides more information on State tax exemptions.

§ 301-11.102 [Amended]

19. Amend § 301-11.102, in the table, in the third column, by revising the first entry under the heading “ Your applicable M&IE rate is” to read as follows.

For days of travel which | Your applicable M&IE rate is
* * * | The M&IE rate applicable for the TDY location or stopover point.
* * * * * | * * * * *

* * * * *

PART 301-12—MISCELLANEOUS EXPENSES

20. The authority citation for 41 CFR part 301-12 continues to read as follows:

Authority: 5 U.S.C. 5707.

§ 301-12.1 [Amended]

21. Amend § 301-12.1, in the table, in the third column, by revising the entry under the heading “Special expenses of foreign travel”, second entry, to read as follows:

General expenses | Fees to obtain money | Special expenses of foreign travel
* * * * * | * * * * * | * * * * *
|  | Passport and/or visa fees, including fees for a physical examination if one is required to obtain a passport and/or visa and such examination could not be obtained at a Government facility. Reimbursement for such fees may include travel and transportation costs to the passport/visa issuing office if located outside the local commuting area of the employee’s official duty station and the traveler’s presence at that office is mandatory.
|  | * * * * *

PART 301-50—ARRANGING FOR TRAVEL SERVICES

22. The authority citation for 41 CFR part 301-50 continues to read as follows:

Authority: 5 U.S.C. 5707; 40 U.S.C. 121(c).

§ 301-50.3 [Amended]

23. Amend § 301-50.3, by removing “System” and adding “Service” in its place.

§ 301-50.8 [Amended]

24. Amend § 301-50.8 by—

a. Adding in paragraph (b)(1), “(the Act)” after “1990”;

b. Revising paragraph (b)(2) introductory text;

c. Removing in paragraph (b)(2)(i), in the first sentence, “under contract”; and removing “eTS” and adding “ETS” in its place;

d. Removing in paragraphs (b)(2)(i), in three places; and (b)(2)(ii), “FPLP” and adding “FedRooms” in its place; and

e. Removing in paragraph (c), in the first sentence, “Military Traffic Management Command (MTMC)” and adding “Surface Deployment and Distribution Command (SDDC)” in its place; and in the last sentence, removing “MTMC” and adding “SDDC”in its place.

The revised text reads as follows:

§ 301-50.8 Are there any limits on travel arrangements I may make?

* * * * *

(b) * * *

(2) When selecting a commercial lodging facility, first consideration must be given to the commercial lodging facilities under FedRooms (FedRooms may be found on the Internet at http://www.fedrooms.gov ), all of which meet fire safety requirements, unless one or more of the following conditions exist:

* * * * *

§§ 301-50.3, 301-50.5, and 301-50.8 [Amended]

25. In addition to the amendments set forth above, in 41 CFR part 301-50, remove the words “eTravel Service” and add, in their place, the words “E-Gov Travel Service” in the following places:

(a) § 301-50.3;

(b) § 301-50.5 heading and section text; and

(c) § 301-50.8(b)(2)(i)

PART 301-51—PAYING TRAVEL EXPENSES

26. The authority citation for 41 CFR part 301-51 is revised to read as follows:

Authority: 5 U.S.C. 5707. Subpart A is issued under the authority of Sec. 2, Pub. L. 105-264, 112 Stat. 2350 (5 U.S.C. 5701 note); 40 U.S.C. 121(c).

§ 301-51.100 [Amended]

27. Amend § 301-51.100, in the table, by—

a. Removing, in the second column, under the heading “You must use”, under the first entry, “card, centrally” and adding “card or centrally” in its place; and removing “, or” at the end of the sentence; and

b. Revising, in the third column, under the first entry under the heading “Unless”.

The revised text reads as follows:

For passenger transportation services costing | You must use | Unless
* * * | * * * | Use of the Government contractor-issued individually billed travel card is not accepted, its use is impracticable or special circumstances justify the use of a GTR.
* * * * * | * * * * * | * * * * *

PART 301-52—CLAIMING REIMBURSEMENT

28. The authority citation for 41 CFR part 301-52 continues to read as follows:

Authority: 5 U.S.C. 5707; 40 U.S.C. 121(c); Sec.2., Pub. L. 105-264, 112 Stat. 2350 (5 U.S.C. 5701 note).

§ 301-52.3 [Amended]

29. Amend § 301-52.3 by removing “eTravel Service” and add “E-Gov Travel Service”; and removing “eTS” and add “ETS” in their places, respectively.

§ 301-52.4 [Amended]

30. Amend § 301-52.4, paragraph (b)(3) by—

a. Removing “ http://ardor.nara.gov/grs/grs06.html” and add “http://www.archives.gov/records-mgmt/ardor/grs06.html” in its place; and

b. Removing “paragraph 1” and add “paragraph number 1” in its place.

PART 301-53—USING PROMOTIONAL MATERIALS AND FREQUENT TRAVELER PROGRAMS

31. The authority citation for 41 CFR part 301-53 continues to read as follows:

Authority: Authority: 5 U.S.C. 5707; 31 U.S.C. 1353.

§ 301-53.4 [Amended]

32. Amend § 301-53.4, in the third sentence, by removing “systems” and adding “services” in its place.

§ 301-53.5 [Amended]

33. Amend § 301-53.5 in the heading and text by removing “system” and adding “service” in its place.

PART 301-54—COLLECTION OF UNDISPUTED DELINQUENT AMOUNTS OWED TO THE CONTRACTOR ISSUING THE INDIVIDUALLY BILLED TRAVEL CHARGE CARD

34. The authority citation for part 301-54 is revised to read as follows:

Authority: 5 U.S.C. 5707; 40 U.S.C. 121(c); Sec. 2, Pub. L. 105-264, 112 Stat. 2350 (5 U.S.C. 5701 note).

PART 301-70—INTERNAL POLICY AND PROCEDURE REQUIREMENTS

35. The authority citation for 41 CFR part 301-70 is revised to read as follows:

Authority: 5 U.S.C. 5707; 40 U.S.C. 121(c); Sec 2, Pub. L. 105-264, 112 Stat. 2350 (5 U.S.C. 5701 note), Office of Management and Budget Circular No. A-126, “Improving the Management and Use of Government Aircraft,” revised May 22, 1992, and OMB Circular No. A-123, Appendix B, “Improving the Management of Government Charge Card Programs,” revised April 2006.

§ 301-70.1 [Amended]

36. Amend § 301-70.1(d) by removing “eTS” and adding “ETS”, two times, in its place.

§ 301-70.701 [Amended]

37. Amend § 301-70.701(a)(3), by removing “Transportation” and adding “Homeland Security” in its place.

38. Amend § 301-70.708(a) by revising the web site address and by revising paragraph (j) to read as follows:

§ 301-70.708 What can we do to reduce travel charge card delinquencies?

* * * * *

(a) * * * http://www.gsa.gov/traveltraining.

* * * * *

(j) For some helpful do’s and don’ts for travel cardholders, see GSA publication (Card-F001) entitled “Helpful Hints for Travel Cardholders”. This publication is available on the Internet at http://fss.gsa.gov/services/gsa-smartpay. Click on “Publications and Presentations” and under “Publications,” click on “Helpful Hints for Travel Card Use”.

* * * * *

PART 301-71—AGENCY TRAVEL ACCOUNTABILITY REQUIREMENTS

39. The authority citation for 41 CFR part 301-71 is revised to read as follows:

Authority: 5 U.S.C. 5707; 40 U.S.C. 121(c); Sec. 2, Pub. L. 105-264, 112 Stat. 2350 (5 U.S.C. 5701 note).

§ 301-71.105 [Amended]

40. Amend § 301-71.105(i), by adding “a” after “of”.

§ 301-71.106 [Amended]

41. Amend § 301-71.106, in the table, under the heading “The appropriate official to sign a trip-by-trip authorization is”, in the third entry, by removing “part 304” and adding “Chapter 304” in its place.

§ 301-71.200 [Amended]

42. Amend § 301-71.200 by removing the comma after the closed parenthesis.

§ 301-71.309 [Amended]

43. Amend § 301-71.309 by removing the words “Accounting ” wherever it appears and adding “Accountability” and “General” wherever it appears and adding “Government” in its place.

PART 301-72—AGENCY RESPONSIBILITIES RELATED TO COMMON CARRIER TRANSPORTATION

44. The authority citation for part 301-72 is revised to read as follows:

Authority: 5 U.S.C. 5707; 31 U.S.C. 3726; 40 U.S.C. 121(c).

§ 301-72.203 [Amended]

45. Amend § 301-72.203 by adding a comma after “e.g.”, in two places.

PART 301-73—TRAVEL PROGRAMS

46. The authority citation for 41 CFR part 301-73 continues to read as follows:

Authority: 5 U.S.C. 5707; 40 U.S.C. 121(c).

§ 301-73.1 [Amended]

47. Amend § 301-73.1(d), by removing the words “Federal Premier Lodging Program (FPLP)” and add “FedRooms”, in its place.

§ 301-73.2 [Amended]

48. Amend § 301-73.2(c), by removing the words “eTravel Program Management Office” and add “E-Gov Travel Program Management Office”, in its place.

§ 301-73.104 [Amended]

49. Amend § 301-73.104(a)(1), by removing the words “Travel Management System” and add “Travel Management Service”, in its place.

§ 301-73.106 [Amended]

50. Amend § 301-73.106 by—

a. Removing in paragraph (a)(2), the words “Federal Premier Lodging Program” and add “FedRooms”, in its place.; and

b. Removing in paragraph (a)(3), the words “Military Traffic Management Command (MTMC)” and adding “Surface Deployment and Distribution Command (SDDC)” in its place.

§§ 301-73.1 through 301-73.106 [Amended]

51. In addition to the amendments set forth above, in 41 CFR part 301-73 remove the words “eTravel Service” and add, in their place, the words “E-Gov Travel Service” in the following places:

(a) Note to § 301-73.1;

(b) § 301-73.100, section heading;

(c) § 301-73.103, section heading;

(d) § 301-73.104, section heading; and

(e) § 301-73.105, section heading.

52. In addition to the amendments set forth above, in 41 CFR part 301-73 remove the word “eTS” and add, in their place, the word “ETS” in the following places:

(a) Note to § 301-73.1;

(b) § 301-73.2(a); (b), two times; (c); (d); (e);

(c) § 301-73.100, five times;

(d) Note to § 301-73.100, five times;

(e) § 301-73.103;

(f) § 301-73.104(a); (a)(1), two times; (a)(2); (a)(3); (a)(4);

(g) § 301-73.105, two times;

(h) § 301-73.106, section heading; and

(i) Note to § 301-73.106, three times.

PART 301-75—PRE-EMPLOYMENT INTERVIEW TRAVEL

53. The authority citation for 41 CFR part 301-75 continues to read as follows:

Authority: 5 U.S.C. 5707.

§ 301-75.4 [Amended]

54. Amend § 301-75.4, paragraph (f), by removing “18 U.S.C. 287 and 1001.” and adding “(See 18 U.S.C. 287 and 1001).” in its place.

PART 301-76—COLLECTION OF UNDISPUTED DELINQUENT AMOUNTS OWED TO THE CONTRACTOR ISSUING THE INDIVIDUALLY BILLED TRAVEL CHARGE CARD

55. The authority citation for 41 CFR part 301-76 is revised to read as follows:

Authority: 5 U.S.C. 5707; 40 U.S.C. 121(c); Sec. 2, Pub. L. 105-264, 112 Stat. 2350 (5 U.S.C. 5701 note).

56. Amend Appendix B to Chapter 301 by revising the introductory paragraph to read as follows:

Appendix B to Chapter 301—Allocation of M&IE Rates To Be Used in Making Deductions From the M&IE Allowance

Deductions to M&IE rates for localities in both nonforeign areas and foreign areas shall be allocated as shown in this table. For information as to where to access per diem rates for various types of Government travel, please consult the table in § 301-11.6.

* * * * *

57. Amend Appendix D to Chapter 301 by removing the acronym “GEBAT” and alphabetically adding or changing the following acronyms to read as follows:

Appendix D to Chapter 301—Glossary of Acronyms

* * * * *

CAS: Commercial Aviation Service(s)

CDW: Collision Damage Waiver

* * * * *

CTO: Commercial Ticket Office

* * * * *

ETS: E-Gov Travel Service(s)

FAA: Federal Aviation Administration

* * * * *

FECA: Federal Employees’ Compensation Act

Fedrooms: Enhanced Federal Premier Lodging Program (formally known as FPLP)

* * * * *

FICA: Federal Insurance Contribution Act

* * * * *

HHG: Household Goods

* * * * *

ISSA: Inter-service Support Agreement(s)

ITRA: Income Tax Reimbursement Allowance

* * * * *

MARS: Military Affiliate Radio System

* * * * *

NARA: National Archives and Records Administration

* * * * *

NTE: Not to Exceed

OBE: Online Self-service Booking Tool

* * * * *

PBP&E: Professional Books, Papers, and Equipment

* * * * *

PMO: E-Gov Travel Program Management Office

* * * * *

SDDC: Surface Deployment and Distribution Command

* * * * *

SIT: Storage in Transit

* * * * *

TMS: Travel Management Service

* * * * *

U.S.: United States

* * * * *

[FR Doc. E7-21254 Filed 10-30-07; 8:45 am]

BILLING CODE 6820-14-S